DEPARTMENT OF DEFENSE

Department of the Navy

[USN-2008-0003]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on March 3, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: January 24, 2008.
L.M. Bynum,
Alternate OSD Federal Register Liaison Officer, Department of Defense.

N01000-1

System name:

Correction Board Case Files System (April 24, 1997, 62 FR 1994).

Changes:

Delete “N01000-1” and replace with “NM01000-1”.

System name:

Delete entry and replace with “Board for Correction of Naval Records Tracking System (BCNRTS) and Case Files.”

* * * * *

System location:

Delete entry and replace with “Board for Correction of Naval Records, Room 2432, 2 Navy Annex, Washington, DC 20370-5100.”

* * * * *

Categories of records in the system:

Delete entry and replace with “Records consist of file cards with basic information and computer records derived there from, case files containing records of board proceedings, material submitted for correction and supporting documentation, correspondence and transcripts of board formal hearings. The basic case information and computer records derived there from include the following: Rank; Social Security Number (SSN)/service number; docket number; date application received; subject category; subject category description; examiner's initials; date examiner assigned; branch of service; board decision; date of board decision; date decision promised if interested members of Congress; date case forwarded to the Secretary of the Navy; date case forwarded to Navy Personnel Command/Commandant of the Marine Corps; date case returned from Navy Personnel Command/Commandant of the Marine Corps; date advisory opinion requested; identity of advisor's organization; date advisory opinion received; date service record ordered; date medical record ordered; date court-martial record ordered; date Navy Discharge Review Board record ordered; date other record ordered; date service record received; date medical record received; date court-martial record received; date Navy Discharge Review Board record received; date other records received; number of Navy applications received; number of Marine Corps applications received; total number of Navy and Marine Corps applications received; statistical breakdown of cases; total number of Navy discharge cases; total number Marine Corps discharge cases; Navy grant count; Navy deny count; Navy modify count; Marine grant; Marine deny count; Marine modify count.”

* * * * *

Purpose(s):

Replace paragraphs 2, 3, and 4 entries with the following “To officials and employees of the Navy Personnel Command, the Bureau of Medicine and Surgery, the Secretary of the Navy Council of Review Boards, the Physical Evaluation Board and the Judge Advocate General for the purpose of obtaining advisory opinions and to correct records in accordance with approved Correction Board decisions.

To officials and employees of Headquarters, U.S. Marine Corps for the purpose of obtaining advisory opinions in cases involving present and former Marine Corps personnel and to correct records of present and former Marine Corps personnel in accordance with approved correction Board decisions.

To officials and employees of the General Litigation Division, Office of the Judge Advocate General, Department of the Navy to prepare legal briefs and answers to complaints filed against the Department of the Navy.”

* * * * *

Policies and practices for storing, retrieving, accessing, retaining, and disposing of records in the system:

Storage:

“Paper records and automated data base [Board for Correction of Naval Records Tracking System (BCNRTS)].”

Retrievability:

Delete entry and replace with “Name of the applicant; docket number; and Social Security Number (SSN)/service number.”

* * * * *

Retention and disposal:

Delete entry and replace with “Three years after record is closed, it is transferred to the Federal Records Center for storage. It is destroyed when 40 years old or when the military personnel service record is destroyed, whichever is earlier.”

* * * * *

Notification procedure:

Delete para 2 and replace with “Individual should submit a written request that includes their full name, Social Security Number (SSN) or service number, and branch of service.

The request should also include a current mailing address and telephone number.”

Record access procedures:

Delete para 2 and replace with “Individual should submit a written request that includes their full name, Social Security Number (SSN) or service number, and branch of service.

The request should also include a current mailing address and telephone number.”

* * * * *

Record source categories:

Delete entry and replace with “Individual; military records; Department of Veterans Affairs; police and law enforcement records.”

* * * * *

NM01000-1

System name:

Board for Correction of Naval Records Tracking System (BCNRTS) and Case Files.

System location:

Board for Correction of Naval Records, Room 2432, 2 Navy Annex, Washington, DC 20370-5100.

Categories of individuals covered by the system:

Any member or former member of the U.S. Navy or Marine Corps who has applied for the correction of his/her naval record.

Categories of records in the system:

Records consist of file cards with basic information and computer records derived therefrom, case files containing records of board proceedings, material submitted for correction and supporting documentation, correspondence and transcripts of board formal hearings. The basic case information and computer records derived therefrom include the following: Rank; Social Security Number (SSN)/service number; docket number; date application received; subject category; subject category description; examiner's initials; date examiner assigned; branch of service; board decision; date of board decision; date decision promised if interested members of Congress; date case forwarded to the Secretary of the Navy; date case forwarded to Navy Personnel Command/Commandant of the Marine Corps; date case returned from Navy Personnel Command/Commandant of the Marine Corps; date advisory opinion requested; identity of advisor's organization; date advisory opinion received; date service record ordered; date medical record ordered; date court-martial record ordered; date Navy Discharge Review Board record ordered; date other record ordered; date service record received; date medical record received; date court-martial record received; date Navy Discharge Review Board record received; date other records received; number of Navy applications received; number of Marine Corps applications received; total number of Navy and Marine Corps applications received; percent of total to grand total; total number of Navy discharge cases; total number Marine Corps discharge cases; Navy grant count; Navy deny count; Navy modify count; Marine grant; Marine deny count; Marine modify count.

Authority for maintenance of the system:

10 U.S.C. 1552; 32 CFR part 723; and E.O. 9397 (SSN).

Purpose(s):

To review applicant's Naval record to determine the existence of alleged error or injustice and to recommend appropriate corrective action when warranted—to report its findings, conclusions and recommendations to the Secretary of the Navy in appropriate cases—to respond to inquiries from applicants, their counsel, and members of Congress.

To officials and employees of the Navy Personnel Command, the Bureau of Medicine and Surgery, the Secretary of the Navy Council of Review Boards, the Physical Evaluation Board and the Judge Advocate General for the purpose of obtaining advisory opinions and to correct records in accordance with approved Correction Board decisions.

To officials and employees of Headquarters, U.S. Marine Corps for the purpose of obtaining advisory opinions in cases involving present and former Marine Corps personnel and to correct records of present and former Marine Corps personnel in accordance with approved correction Board decisions.

To officials and employees of the General Litigation Division, Office of the Judge Advocate General, Department of the Navy to prepare legal briefs and answers to complaints filed against the Department of the Navy.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records notices apply to this system.

Policies and practices for storing, retrieving, accessing, retaining, and disposing of records in the system:

Storage:

Paper records and automated data base [Board for Correction of Naval Records Tracking System (BCNRTS)].

Retrievability:

Name of the applicant; docket number; and Social Security Number (SSN)/service number.

Safeguards:

Access to building is protected by uniformed security officers requiring positive identification; for admission after hours, records are maintained in areas accessible only to authorized personnel. Computer systems are password protected.

Retention and disposal:

Three years after record is closed, it is transferred to the Federal Records Center for storage. It is destroyed when 40 years old or when the military personnel service record is destroyed, whichever is earlier.

System manager(s) and address:

Executive Director, Board for Correction of Naval Records, Room 2432, 2 Navy Annex, Washington, DC 20370-5100.

Notification procedure:

Individuals seeking to determine whether information about themselves is contained in this system should address written inquiries to the Executive Director, Board for Correction of Naval Records, Room 2432, 2 Navy Annex, Washington, DC 20370-5100.

Individual should submit a written request that includes their full name, Social Security Number (SSN) or service number, and branch of service. In additional, the request should also include a current mailing address and telephone number.

Record access procedures:

Individuals seeking access to information about themselves contained in this system should address written inquiries to the Executive Director, Board for Correction of Naval Records, Room 2432, 2 Navy Annex, Washington, DC 20370-5100.

Individual should submit a written request that includes their full name, Social Security Number (SSN) or service number, and branch of service. In additional, the request should also include a current mailing address and telephone number.

Contesting record procedures:

The Navy's rules for accessing records, and for contesting contents and appealing initial agency determinations are published in Secretary of the Navy Instruction 5211.5; 32 CFR part 701; or may be obtained from the system manager.

Record source categories:

Individual; military records; Department of Veterans Affairs; police and law enforcement records.

Exemptions claimed for the system:

None.

[FR Doc. E8-1745 Filed 1-30-08; 8:45 am]

BILLING CODE 5001-06-P